DEPARTMENT OF TRANSPORTATION

Coast Guard

[CGD08-01-054]

Notice of Public Hearing on Vancouver Railroad Bridge Across the Columbia River, Mile 105.6, at Vancouver, WA

AGENCY: Coast Guard, DOT.

ACTION: Notice of public hearing.

SUMMARY: The Coast Guard will hold a public hearing to receive comments concerning the alteration of the Vancouver Railroad Bridge at Vancouver, Washington. The hearing will allow interested persons to present comments and information concerning the unreasonably obstructive nature of the bridge.

DATES: The hearing will be held on March 5, 2002, commencing at 6:30 p.m. Comments must be received by February 15, 2002. Requests to speak must be received in the Office of Bridge Administration at the address given under ADDRESSES by February 15, 2002.

ADDRESSES: The hearing will be held in the Commission Room, Port of Portland, 121 NW Everett, Portland, Oregon 97209.

Written comments may be submitted to, and will be available for examination between 8 a.m. to 4 p.m., Monday through Friday, except Federal holidays, at the office of the Commander Eighth Coast Guard District (obr), Bridge Administration Branch, 1222 Spruce Street, St. Louis, MO 63103-2832. Please submit all comments in an unbound format, no larger than 8 x 11 inches, suitable for copying and electronic filing. Persons wanting acknowledgement of receipt of comments should enclose a stamped, self-addressed postcard or envelope.

FOR FURTHER INFORMATION CONTACT: Mr. Roger K. Wiebusch, Bridge Administrator, telephone (314) 539-3900 extension 378.

SUPPLEMENTARY INFORMATION:

Background

Complaints have been received alleging that the bridge is unreasonably obstructive to navigation. Information available to the Coast Guard indicates two bridge allisions have occurred and numerous other bridge allisions have been narrowly avoided between 1991 and 2000. The navigation opening of the bridge is 200 feet. The Vancouver Railroad Bridge is located 0.8 mile downstream from the I-5 Highway Bridge. The highway bridge influences the approach of vessels to the navigation span of the railroad bridge. Based on the comments received at the public hearing, the bridge may be found to be unreasonably obstructive to navigation. Such a finding may require relocating and increasing the horizontal clearance of the railroad bridge to meet the needs of navigation.

Procedural

Any person, who wishes, may appear and be heard at this public hearing. Individuals and representatives of organizations that wish to present testimony at the hearing may submit a request to this office at the address listed under ADDRESSES clearly indicating name and organization represented. Requests to speak should be received no later than February 15, 2002 in order to ensure proper scheduling for the hearing. Depending on the number of scheduled statements, it may be necessary to limit the amount of time allocated to each person. Any limitation of time allocated will be announced at the beginning of the hearing. Written statements and other exhibits may be submitted in lieu of, or in addition to, oral statements made at the hearing, and may be submitted to this office at the address listed under ADDRESSES until February 15, 2002, for inclusion in the public hearing transcript. Transcripts of the hearing will be made available for purchase upon request.

Information on Services for Individuals With Disabilities

For information about facilities or services for individuals with disabilities or to request special assistance at the meeting, contact Commander, Eighth Coast Guard District (obr). Please request these services by contacting this office at the phone number under FOR FURTHER INFORMATION CONTACT or in writing at the address listed under ADDRESSES. Any requests for an oral or sign language interpreter must be received by February 15, 2002.

Authority: 33 U.S.C. 513; 49 CFR 1.46.

Dated: January 2, 2002.
J.R. Whitehead,
Captain, U.S. Coast Guard, Commander, 8th Coast Guard Dist., Acting.

[FR Doc. 02-2544 Filed 1-31-02; 8:45 am]

BILLING CODE 4910-15-P